DEPARTMENT OF EDUCATION

Office of Vocational and Adult Education, Department of Education; Notice of Proposed Changes to Requirements

SUMMARY: The Assistant Secretary for Vocational and Adult Education proposes to change certain requirements governing the Community Technology Centers (CTC) program that were established in 2004 and used for the Fiscal Year (FY) 2004 CTC competition. Specifically, the Assistant Secretary proposes to remove the following two requirements: (1) Novice and non-novice applicants in CTC competitions must be ranked and funded separately, and (2) at least 75 percent of the funds must be set aside for non-novice applicants and up to 25 percent of the funds must be set aside for novice applicants. The Assistant Secretary intends to make awards in FY 2005 from the list of unfunded applicants from the FY 2004 CTC competition.

DATES: We must receive your comments on or before June 3, 2005.

ADDRESSES: Address all comments about these proposed changes to the requirements to Inas El-Sabban, U.S. Department of Education, 400 Maryland Avenue, SW., room 11055, Potomac Center Plaza, Washington, DC 20202-7100. If you prefer to send your comments through the Internet, use the following address: inas.el-sabban@ed.gov.

You must include the phrase “CTC Comments” in the subject line of your electronic message.

FOR FURTHER INFORMATION CONTACT: Inas El-Sabban. Telephone: (202) 245-7736.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Invitation To Comment

We invite you to submit comments regarding these proposed changes to the requirements that we established for the FY 2004 CTC competition. These changes will apply only to the awards we will make in FY 2005 based on the list of unfunded applications from the FY 2004 competition.

We invite you to assist us in complying with the specific requirements of Executive Order 12866 and its overall requirement of reducing regulatory burden that might result from this proposed regulatory action. Please let us know of any further opportunities we should take to reduce potential costs or increase potential benefits while preserving the effective and efficient administration of the program.

During and after the comment period, you may inspect all public comments about this regulatory action at 550 12th Street, SW., room 11089, Washington, DC, between the hours of 8:30 a.m. and 4 p.m., Eastern Time, Monday through Friday of each week except Federal holidays.

Assistance to Individuals With Disabilities in Reviewing the Rulemaking Record

On request, we will supply an appropriate aid, such as a reader or print magnifier, to an individual with a disability who needs assistance to review the comments or other documents in the public rulemaking record for this regulatory action. If you want to schedule an appointment for this type of aid, please contact the person listed under FOR FURTHER INFORMATION CONTACT.

Background

In 2004, the Department held a CTC competition with FY 2004 funds, in which it used the requirements, priorities, and selection criteria that it had established through a notice of final requirements, priorities, and selection criteria for novice and non-novice applicants for the CTC program, published in the Federal Register on April 16, 2004 (69 FR 20766). Under the requirements established and used in the FY 2004 competition, the Department ranked and funded separately two sets of applicants that met the established absolute priorities—novice applicants and non-novice applicants. The Department set aside approximately 75 percent of the funds for non-novice applicants and approximately 25 percent of the funds for novice applicants.

Because of the separate ranking of novice and non-novice applicants and the set-aside requirements, a number of high-quality applications received through the FY 2004 CTC competition were not funded. Accordingly, the Department proposes to make awards for FY 2005 based on the list of unfunded applicants from the FY 2004 CTC competition without regard to the set-aside provisions, thereby continuing to support and create local technology programs that are among the strongest in the nation.

Discussion of Proposed Changes

We will announce the final changes to these requirements in a notice in the Federal Register. We will determine the final requirements after considering responses to this notice and other information available to the Department.

Targeted Applicants

We propose to change two of the requirements of the CTC competition held in 2004 so that the Department is no longer required to: (1) Rank and fund novice and non-novice applicants separately, and (2) set aside at least 75 percent of the funds for non-novice applicants and up to 25 percent of the funds for novice applicants that met the absolute priorities.

For FY 2005, we are proposing to make awards from the list of unfunded applicants from the FY 2004 competition in the highest-ranking order, using the same priorities and selection criteria and irrespective of the novice or non-novice status of applicants.

Rationale

The Department received nearly 500 applications in response to the FY 2004 Notice Inviting Applications for the CTC program. With the $9.5 million available, the Department awarded 25 grants. A number of high-quality applications remained unfunded. The Assistant Secretary has determined the best way to expend the $4.9 million appropriated for FY 2005 is to make awards from the list of unfunded applicants from the FY 2004 CTC competition, without taking into account the novice or non-novice status of the applicants. By making awards from the list of unfunded applicants from the FY 2004 competition in this manner, the Department will ensure that the highest-quality applications are funded.

Executive Order 12866

This notice of proposed changes to requirements has been reviewed in accordance with Executive Order 12866. Under the terms of the order, we have assessed the potential costs and benefits of this regulatory action.

The potential costs associated with the notice of proposed changes to requirements are those resulting from statutory requirements and those we have determined as necessary for administering this program effectively and efficiently.

In assessing the potential costs and benefits—both quantitative and qualitative—of this notice of proposed changes to requirements, we have determined that the benefits of the proposed change to the requirements governing the FY 2004 CTC competition justify the costs.

We have also determined that this regulatory action does not unduly interfere with State, local, and tribal governments in the exercise of their governmental functions.

Intergovernmental Review

This program is subject to Executive Order 12372 and the regulations in 34 CFR part 79. One of the objectives of the Executive Order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF), on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.341—Community Technology Centers Program)
Dated: April 29, 2005.
Susan Sclafani,
Assistant Secretary for Vocational and Adult Education.

[FR Doc. 05-8890 Filed 5-3-05; 8:45 am]

BILLING CODE 4000-01-P